POSTAL SERVICE

Board of Governors; Sunshine Act Meeting

Date and Times: Tuesday, January 11, 2005; 8:30 a.m. and 9:30 a.m.

Place: Washington, DC, at U.S. Postal Service Headquarters, 475 L'Enfant Plaza, SW., in the Benjamin Franklin Room.

Status: January 11—8:30 a.m. (Open); 9:30 a.m. (Closed).

Matters to be Considered:

Tuesday, January 11—8:30 a.m. (Open)

1. Minutes of the Previous Meeting, December 7, 2004.

2. Remarks of the Postmaster General and CEO.

3. Committee Reports.

4. Consideration of Board Resolution on Capital Funding.

5. Annual Report on Government in the Sunshine Act Compliance.

6. Fiscal Year 2004 Comprehensive Statement on Postal Operations, including the Preliminary Fiscal Year 2006 Annual Performance Plan—GPRA.

7. Capital Investment.

a. Southern Maine Processing and Distribution Center.

8. Election of Chairman and Vice Chairman of the Board of Governors

9. Tentative Agenda for the February 16-17, 2005, meeting in Sarasota, Florida.

Tuesday, January 11—9:30 a.m. (Closed)

1. Financial Update.

2. Postal Rate Commission Opinion and Recommended Decision in Repositionable Notes Provisional Service Change, Docket No. MC2004-5.

3. Rate Case Planning.

4. Strategic Planning.

5. Personnel Matters and Compensation Issues.

FOR FURTHER INFORMATION CONTACT: William T. Johnstone, Secretary of the Board, U.S. Postal Service, 475 L'Enfant Plaza, SW., Washington, DC 20260-1000. Telephone (202) 268-4800.

William T. Johnstone,
Secretary.

[FR Doc. 05-278 Filed 1-3-04; 1:46 pm]

BILLING CODE 7710-12-M